FEDERAL MARITIME COMMISSION

[Docket No. 01-06]

Exclusive Tug Franchises—Marine Terminal Operators Serving the Lower Mississippi River; Notice of Extension of Time

Notice is given that, upon request of the Administrative Law Judge, the Commission has determined to extend the deadline for issuance of an initial decision in this proceeding to July 1, 2005. Correspondingly, the time for issuance of the Commission's final decision is extended to October 31, 2005.

By the Commission.
Karen V. Gregory,
Assistant Secretary.

[FR Doc. 04-14296 Filed 6-23-04; 8:45 am]

BILLING CODE 6730-01-P